DEPARTMENT OF AGRICULTURE

Forest Service

Beaverhead-Deerlodge National Forest; Montana; Supplemental EIS for the Beaverhead-Deerlodge National Forest Land and Resource Management Plan To Comply With District of Montana Court Order

AGENCY: Forest Service, USDA.

ACTION: Notice of intent to prepare a supplemental environmental impact statement.

SUMMARY: The Beaverhead-Deerlodge National Forest will prepare a Supplemental Environmental Impact Statement (SEIS) to the 2009 Beaverhead-Deerlodge National Forest Revised Land and Resource Management Plan (Forest Plan) environmental analysis in response to an April 2, 2012 Order, from the U.S. District Court for the District of Montana. The Court directed the Forest Service to apply the minimization criteria mandated by Executive Order (EO) 11644 “at the route-specific level where specific snowmobile routes are designated.” The supplement will evaluate the effects of specific snowmobile routes delineated on maps in the 2009 Forest Plan in order to make an informed decision in accordance with EO 11644.

DATES: Under 40 CFR 1502.9(c)(4), there is no formal scoping period for this proposed action. The Draft SEIS is expected June, 2012 and the Final SEIS is expected September, 2012.

ADDRESSES: The line officer responsible for the decision is Northern Region Regional Forester Faye Krueger.

FOR FURTHER INFORMATION CONTACT: Noelle Meier, Beaverhead-Deerlodge National Forest, 420 Barrett Street, Dillon, MT 59725, (406) 683-3900. Individuals who use telecommunication devices for the deaf (TDD) may call the Federal Information Relay Service (FIRS) at 1-800-877-8339 between 8 a.m. and 8 p.m., Eastern Time, Monday through Friday.

SUPPLEMENTARY INFORMATION: The 2009 Forest Plan provides management direction for activities on the Beaverhead-Deerlodge National Forest for the next 10 to 15 years, including direction on eight revision topics (vegetation, wildlife, aquatic resources, recreation and travel management, fire management, livestock grazing, timber and recommended wilderness). In 2010, Wildlands CPR, Inc., Friends of the Bitterroot Inc., and Montanans for Quiet Recreation filed a complaint in U.S. District Court for the District of Montana (Case 9:10-cv-00104-DWM) alleging inadequate analysis of the impacts of winter motorized travel when developing the Forest Plan and failure to analyze criteria intended to minimize off-road vehicle impacts. In an April 2, 2012 Order, the U.S. District Court for the District of Montana found the Forest Service had adequately applied the minimization criteria of EO 11644 for areas generally open to snowmobile use. However, the court found “to the extent that specific routes have been designated for snowmobile use”, the Forest Service failed to show it adequately applied the minimization criteria at the route-specific level. The court ordered as follows: “that this case is remanded to the Forest Service for the limited purpose of applying the minimization criteria mandated by EO 11644 at the route specific level where specific snowmobile routes are designated. The Forest Service shall perform this analysis and updated the Revised Forest Plan by September 30, 2012. A failure to do so will result in the suspension of the winter travel management portion of the Revised Forest Plan as of October 1, 2012.”

The SEIS will provide additional environmental analysis of three routes delineated in the Forest Plan as exceptions to winter, non-motorized areas. These routes are: (1) Snowmobile use in the vicinity of Thunderbolt Creek and Cottonwood Lake (Jefferson County, Montana) as delineated on page 94 of the Forest Plan, (2) snowmobile use through the non-motorized area on the Road #056 corridor in the vicinity of Antelope Basin (Beaverhead County, Montana) as delineated on page 128 of the Forest Plan, and (3) snowmobile use on the route to Antone Cabin (open to motorized vehicles yearlong) in the southwest portion of the Snowcrest Mountains (Beaverhead County, Montana) as delineated on page 152 of the Forest Plan. The analysis will evaluate the potential effects from these routes on soil, watershed, vegetation, wildlife, and recreation users. This analysis will be used to determine if snowmobile use on these routes complies with EO 11644 or whether a change is warranted.

A Draft SEIS is expected to be available for public review and comment in late June 2012; and a Final SEIS in September 2012. The comment period for the Draft SEIS will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final supplemental environmental impact statement.

Dated: May 31, 2012.
Victoria C. Christiansen,
Regional Forester.

[FR Doc. 2012-13669 Filed 6-5-12; 8:45 am]

BILLING CODE 3410-11-P